Advisory Council on Historic Preservation

Meeting

AGENCY: Advisory Council on Historic Preservation.

ACTION: Notice of meeting.

SUMMARY: Notice is hereby given that the Advisory Council on Historic Preservation will meet on Friday, November 17, 2000. The meeting will be held in the North Lodge Room, George Washington Masonic National Memorial, 101 Callahan Drive, Alexandria, Virginia, beginning at 8:30 a.m.

The Council was established by the National Historic Preservation Act of 1966 (16 U.S.C. Section 470) to advise the President and the Congress on matters relating to historic preservation and to comment upon Federal, federally assisted, and federally licensed undertakings having an effect upon properties listed in or eligible for inclusion in the National Register of Historic Places. The Council's members are the Architect of the Capitol; the Secretaries of the Interior, Agriculture, Housing and Urban Development, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome

II. Swearing-In Ceremony

III. Chairman's Report

IV. Presentation of Leadership Awards

Revision of Council Strategic Plan—Action

Section 106 Regulations

A. Consideration and Vote on Adoption of Revised Regulation (see 65 FR 42834-42850)—Action

B. Consideration of and Vote on Proposed Suspension of Existing Regulation (see 65 FR 55928-55929)—Action

VII. Tribal Issues

A. Proposed Council Policy on Tribal Relations—Action

B. Narragansett Section 106 Substitution Agreement—Report and Possible Action

VIII. Federal Stewardship Report

A. Plan for Implementing Recommendations—Action

B. Proposed Executive Order on Federal Stewardship—Report

C. National Park Service Federal Preservation Institute—Report and Discussion

D. Task Force on Balancing Cultural and Natural Values in National Parks—Report

IX. Executive Director's Report

A. Department of Energy Manhattan Project Panel—Report

B. Major Section 106 Cases—Report and Possible Action

C. Cellular Communications Towers and Section 106—Report and Possible Action

X. New Business

A. Historic Preservation in the FY 2002 Budget—Action

B. Meeting Schedule for 2001—Action

XI. Adjourn

Note: The meetings of the Council are open to the public. If you need special accommodations due to a disability, please contact the Advisory Council on Historic Preservation, 1100 Pennsylvania Ave., NW., Room 809, Washington, DC 20004, 202-606-8503, at least seven (7) days prior to the meeting.

FOR FURTHER INFORMATION CONTACT: Additional information concerning the meeting is available from the Executive Director, Advisory Council on Historic Preservation, 1100 Pennsylvania Ave., NW., #809, Washington, DC 20004, 202-606-8503.

Dated: October 27, 2000.
John M. Fowler,
Executive Director.

[FR Doc. 00-28132 Filed 11-1-00; 8:45 am]

BILLING CODE 4310-10-M